DEPARTMENT OF HOMELAND SECURITY

Coast Guard

[USCG-2012-0044]

Collection of Information under Review by Office of Management and Budget

AGENCY: Coast Guard, DHS.

ACTION: Thirty-day notice requesting comments.

SUMMARY: In compliance with the Paperwork Reduction Act of 1995 the U.S. Coast Guard is forwarding an Information Collection Request (ICR), abstracted below, to the Office of Management and Budget (OMB), Office of Information and Regulatory Affairs (OIRA), requesting approval for the following collection of information: 1625-NEW, Coast Guard Living Marine Resources (LMR) Enforcement Survey. Our ICR describes the information we seek to collect from the public. Review and comments by OIRA ensure we only impose paperwork burdens commensurate with our performance of duties.

DATES: Comments must reach the Coast Guard and OIRA on or before July 11, 2012.

ADDRESSES: You may submit comments identified by Coast Guard docket number [USCG-2012-0044] to the Docket Management Facility (DMF) at the U.S. Department of Transportation (DOT) and/or to OIRA. To avoid duplicate submissions, please use only one of the following means:

(1) Online: (a) To Coast Guard docket at http://www.regulations.gov. (b) To OIRA by email via: OIRA-submission@omb.eop.gov .

(2) Mail: (a) DMF (M-30), DOT, West Building Ground Floor, Room W12-140, 1200 New Jersey Avenue SE., Washington, DC 20590-0001. (b) To OIRA, 725 17th Street NW., Washington, DC 20503, attention Desk Officer for the Coast Guard.

(3) Hand Delivery: To DMF address above, between 9 a.m. and 5 p.m., Monday through Friday, except Federal holidays. The telephone number is 202-366-9329.

(4) Fax: (a) To DMF, 202-493-2251. (b) To OIRA at 202-395-6566. To ensure your comments are received in a timely manner, mark the fax, attention Desk Officer for the Coast Guard.

The DMF maintains the public docket for this Notice. Comments and material received from the public, as well as documents mentioned in this Notice as being available in the docket, will become part of the docket and will be available for inspection or copying at room W12-140 on the West Building Ground Floor, 1200 New Jersey Avenue SE., Washington, DC, between 9 a.m. and 5 p.m., Monday through Friday, except Federal holidays. You may also find the docket on the Internet at http://www.regulations.gov.

A copy of the ICR is available through the docket on the Internet at http://www.regulations.gov. Additionally, copies are available from: Commandant (CG-611), Attn: Paperwork Reduction Act Manager, U.S. Coast Guard, 2100 2nd St SW., Stop 7101, Washington DC 20593-7101.

FOR FURTHER INFORMATION CONTACT: Ms. Kenlinishia Tyler, Office of Information Management, telephone 202-475-3652 or fax 202-475-3929, for questions on these documents. Contact Ms. Renee V. Wright, Program Manager, Docket Operations, 202-366-9826, for questions on the docket.

SUPPLEMENTARY INFORMATION:

Public Participation and Request for Comments

This Notice relies on the authority of the Paperwork Reduction Act of 1995; 44 U.S.C. Chapter 35, as amended. An ICR is an application to OIRA seeking the approval, extension, or renewal of a Coast Guard collection of information (Collection). The ICR contains information describing the Collection's purpose, the Collection's likely burden on the affected public, an explanation of the necessity of the Collection, and other important information describing the Collection. There is one ICR for each Collection.

The Coast Guard invites comments on whether this ICR should be granted based on the Collections being necessary for the proper performance of Departmental functions. In particular, the Coast Guard would appreciate comments addressing: (1) The practical utility of the Collection; (2) the accuracy of the estimated burden of the Collection; (3) ways to enhance the quality, utility, and clarity of information subject to the Collection; and (4) ways to minimize the burden of the Collection on respondents, including the use of automated collection techniques or other forms of information technology. These comments will help OIRA determine whether to approve the ICR referred to in this Notice.

We encourage you to respond to this request by submitting comments and related materials. Comments to Coast Guard or OIRA must contain the OMB Control Number of the ICR. They must also contain the docket number of this request, [USCG 2012-0044], and must be received by July 11, 2012. We will post all comments received, without change, to http://www.regulations.gov. They will include any personal information you provide. We have an agreement with DOT to use their DMF. Please see the “Privacy Act” paragraph below.

Submitting Comments

If you submit a comment, please include the docket number [USCG-2012-0044], indicate the specific section of the document to which each comment applies, providing a reason for each comment. You may submit your comments and material online (via http://www.regulations.gov), by fax, mail, or hand delivery, but please use only one of these means. If you submit a comment online via www.regulations.gov, it will be considered received by the Coast Guard when you successfully transmit the comment. If you fax, hand deliver, or mail your comment, it will be considered as having been received by the Coast Guard when it is received at the DMF. We recommend you include your name, mailing address, an email address, or other contact information in the body of your document so that we can contact you if we have questions regarding your submission.

You may submit comments and material by electronic means, mail, fax, or delivery to the DMF at the address under ADDRESSES, but please submit them by only one means. To submit your comment online, go to http://www.regulations.gov, and type “USCG-2012-0044” in the “Keyword” box. If you submit your comments by mail or hand delivery, submit them in an unbound format, no larger than 8½ by 11 inches, suitable for copying and electronic filing. If you submit comments by mail and would like to know that they reached the Facility, please enclose a stamped, self-addressed postcard or envelope. We will consider all comments and material received during the comment period and will address them accordingly.

Viewing Comments and Documents

To view comments, as well as documents mentioned in this Notice as being available in the docket, go to http://www.regulations.gov, click on the “read comments” box, which will then become highlighted in blue. In the “Keyword” box insert “USCG-2012-0044” and click “Search.” Click the “Open Docket Folder” in the “Actions” column. You may also visit the DMF in Room W12-140 on the ground floor of the DOT West Building, 1200 New Jersey Avenue SE., Washington, DC 20590, between 9 a.m. and 5 p.m., Monday through Friday, except Federal holidays.

OIRA posts its decisions on ICRs online at http://www.reginfo.gov/public/do/PRAMain after the comment period for each ICR. An OMB Notice of Action on each ICR will become available via a hyperlink in the OMB Control Number: 1625-NEW.

Privacy Act

Anyone can search the electronic form of comments received in dockets by the name of the individual submitting the comment (or signing the comment, if submitted on behalf of an association, business, labor union, etc.). You may review a Privacy Act statement regarding Coast Guard public dockets in the January 17, 2008, issue of the Federal Register (73 FR 3316).

Previous Request for Comments

This request provides a 30-day comment period required by OIRA. The Coast Guard published the 60-day notice (77 FR 6571, February 8, 2012) required by 44 U.S.C. 3506(c)(2). That Notice elicited one comment response. The commenter noted the importance of this information elicitation, and recommended executing similar survey efforts on a recurring basis. More specifically, the commenter recommended that:

1. The survey instructions be clarified and remind respondents about the potential to receive a raffle prize. The Coast Guard revised the introductory paragraph in response to this recommendation.

2. The survey include a question asking for the proportion or percentage of time spent in each fishery. The Coast Guard did not act on this recommendation because this information could not be used in the scope of the survey design.

3. The survey include an additional question asking the most recent date of active fishing. The Coast Guard has added a question the survey to determine the activity level of the respondent in their primary fishery in response to this recommendation.

4. The survey include questions asking respondents directly about their activity in the fishery instead of asking about trends the fisherman has observed in other fishermen. The Coast Guard did not act on this recommendation because this survey approach was chosen deliberately to reduce social-desirability bias in responses.

5. The survey include indications of whether different forms of Coast Guard enforcement has been encountered by the respondent. Since the Coast Guard has not adjusted the survey to the comment outlined in #4, this recommendation does not apply as respondents are not specifically asked about their own experiences with Coast Guard enforcement.

6. The survey clarify what animals are managed under the Marine Mammal Protection Act. The Coast Guard chose to not change this question because (1) an exhaustive list of all marine mammals fishermen are likely to encounter would be prohibitively long, and not listing marine mammals could prevent respondents from answering the question correctly and (2) the majority of fishermen already understand what species are covered under the Marine Mammal Protection Act..

7. The Coast Guard modify the responses to the question “If a National Marine Sanctuary exists in the area where you fish, how doe its existence impact the abundance of the fishery's target species?” The Coast Guard has modified this question in response to this recommendation.

8. The Coast Guard provide a single direct link to the survey that does not require respondents to go through the Federal Register. This was the original intent of the Coast Guard, the PRA package has been modified to correctly reflect this.

9. The Coast Guard include an option for paper surveys to be delivered by mail to those who request one. Providing a paper survey option is cost prohibitive. The Coast Guard shares the respondent's desire to maximize the population for which this survey is accessible, and therefore will consider alternate options such as providing internet access during public events to complete the survey.

10. The survey period be extended to better accommodate fishermen whose peak fishing coincides with the survey time. The Coast Guard agrees with this comment and will keep the survey open for an adequate period of time to facilitate survey responses from all fisheries participants.

Information Collection Request

Title: Coast Guard Living Marine Resources (LMR) Enforcement Survey.

OMB Control Number: 1625-NEW.

Type of Request: New Collection.

Respondents: U.S. marine fishing permit holders and registered saltwater recreational fishermen.

Abstract: The purpose of this survey is to assess the effectiveness of various enforcement techniques available to the U.S. Coast Guard to promote compliance with federal LMR regulations. The results of this survey will ultimately allow the Coast Guard to link level and type of Coast Guard enforcement efforts with compliance decisions made by the regulated community.

Forms: None.

Burden Estimate: The estimated burden is 3,600 hours.

Dated: June 1, 2012.
R. E. Day,
Rear Admiral, U.S. Coast Guard, Assistant Commandant for Command, Control, Communications, Computers and Information Technology.

[FR Doc. 2012-14124 Filed 6-8-12; 8:45 am]

BILLING CODE 9110-04-P